DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Affairs announces that the Advisory Board for Exceptional Children will hold its next meeting in Albuquerque, New Mexico. The purpose of the meeting is to discuss the impact of the Individuals with Disabilities Education Improvement Act Amendments of 2004 on Indian children with disabilities.

DATES: The Board will meet Tuesday, November 8, 2005, from 8 a.m. to 4:30 p.m., Wednesday, November 9, 2005, from 8 a.m. to 4:30 p.m. and Thursday, November 10, 2005, from 8 a.m. to 12 noon (MST).

ADDRESSES: The meetings will be held at the Center for School Improvement, 500 Gold Avenue SW., 7th Floor, Albuquerque, New Mexico.

Written statements may be submitted to Mr. Edward F. Parisian, Director, Office of Indian Education Programs, Bureau of Indian Affairs, 1849 C Street, NW., MS-3512, Washington, DC 20240; Telephone (202) 208-6123; Fax (202) 208-3312.

FOR FURTHER INFORMATION CONTACT: Gloria Yepa, Supervisory Education Specialist, Special Education, Bureau of Indian Affairs, Office of Indian Education Programs, Center for School Improvement, PO Box 1088, Albuquerque, New Mexico 87103; Telephone (505) 248-7541.

SUPPLEMENTARY INFORMATION: The Advisory Board for Exceptional Children was established to advise the Secretary of the Interior, through the Assistant Secretary-Indian Affairs, on the needs of Indian children with disabilities, as mandated by the Individuals with Disabilities Education Improvement Act Amendments of 2004, Public Law 108-446.

The agenda for this meeting will cover public comments, new appointees, and new business: (1) Annual report including Office of Special Education Programs feedback, (2) comprehensive system of personnel development, (3) new organizational information, (4) procedures for complaint investigations, and (5) Elementary and Secondary Education Act. Meetings are open to the public.

Dated: October 6, 2005.
Michael D. Olsen,
Acting Principal Deputy Assistant Secretary—Indian Affairs.

[FR Doc. 05-20523 Filed 10-12-05; 8:45 am]

BILLING CODE 4310-6W-P